DEPARTMENT OF HOMELAND SECURITY

Coast Guard

33 CFR Parts 101 and 104

[USCG-2004-17086]

Application for Continuous Synopsis Record (CSR) (Form CG-6309)

AGENCY: Coast Guard, DHS.

ACTION: Notice of Forms availability; announcement of approval date and clarification.

SUMMARY: The Coast Guard announces the approval of the collection of information associated with the Application for a Continuous Synopsis Record by the Office of Management and Budget (OMB). The Coast Guard also makes clarifications to the Notice of Availability of this application, published in the Federal Register on February 27, 2004, and addresses the comments received from the public.

DATES: Form CG-6039, Application for Continuous Synopsis Record, was approved on April 2, 2004 (OMB control number 1625-0002). Form CG-6038A, Amendments to the CSR and Index of Amendments to the CSR, was approved on April 23, 2004 (OMB control number 1625-0017).

FOR FURTHER INFORMATION CONTACT: If you have any questions regarding this notice or the CSR contact Lieutenant Commander Kirsten R. Martin, telephone (202) 267-0503, e-mail kmartin@comdt.uscg.mil or Chief Warrant Officer Jim Upthegrove, telephone (202) 267-0102, e-mail jupthegrove@comdt.uscg.mil, U.S. Coast Guard Office of Compliance (G-MOC-1). If you have questions on viewing or submitting material to the docket, call Andrea M. Jenkins, Program Manager, Docket Operations, telephone 202-366-0271.

SUPPLEMENTARY INFORMATION: Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Comments

The Coast Guard received two general comments from the public. One commenter expressed concern with the short submission time for the application of the Continuous Synopsis Record. The Coast Guard recognizes the difficult timelines for compliance with the requirements for the International Ship and Port Facility Security (ISPS) Code. The Coast Guard Marine Safety Center has identified through all practical means those vessels subject to International Convention for the Safety of Life at Sea, 1974 as amended (SOLAS) requiring International Ship Security Certificates (ISSCs) and Continuous Synopsis Records (CSRs) to be onboard prior to July 1, 2004. These vessels are receiving priority scheduling at each step of the process. We have instituted a concurrent issue process for ISSCs and initial CSRs to enable Coast Guard field units to deliver both documents upon satisfactory completion of the onboard verification exam. Upon receipt of an approval letter for their vessel security plan, owners and operators are strongly encouraged to coordinate closely with their local Officer in Charge, Marine Inspection (OCMI) and the Continuous Synopsis Record Desk (CSR Desk) without delay to ensure timely onboard verification and document issuance.

The other comment stated that there was possible confusion regarding what vessels are required to carry an ISSC and a CSR. The requirements of the ISPS Code, including ISSCs and CSRs, are applicable to those vessels identified in Chapter I of SOLAS, which defines cargo ships as “any ship which is not a passenger ship” and specifically exempts “cargo ships of less than 500 gross tonnage” and “ships not propelled by mechanical means.” Some members of the maritime community have confused the requirements of the ISPS Code with the requirements of the Maritime Transportation Security Act of 2002 (MTSA). While the ISPS Code and the MTSA closely parallel one another, there are several instances where they diverge considerably. Among them are applicability, and the requirements for documents such as ISSC and CSR. Barges or non self-propelled vessels are not subject to SOLAS, and therefore do not have to carry a CSR.

Clarification

We received some requests from the public and industry to clarify certain wording in the Notice of Availability that was published in the Federal Register February 17, 2004 (69 FR 9206). The following clarifications are provided to assist both the public and pertinent implementation and compliance agencies, including the Coast Guard.

“Gross Tonnage,” means the gross tonnage measurement of the vessel under 46 U.S.C. chapter 143 Convention measurement (referring to International Convention on Tonnage Measurement of Ships, 1969, also known as ITC). This parameter is also described as “GT” or “GT ITC”. It follows that any wording that refers to “tons” should be read as “tonnage.” Also, in accordance with SOLAS definitions, the way to refer to a passenger vessel's applicability requirement, shall read “more than 12 passengers” instead of “12 or more passengers.”

Furthermore, some definitions were mentioned in the notice and were provided as a ready source of information. The Coast Guard has found that they might be a potential source of confusion as it could be interpreted that these definitions are new or revised definitions of existing terms. To clarify this, the intent of this notice is to adhere to the existing definitions as defined in the Maritime Transportation Security Act of 2002 (MTSA) and SOLAS. These definitions are already clearly defined and are applicable for the CSR Notice of Availability.

Collection of Information

This notice calls for no new collections of information under the Paperwork Reduction Act of 1995 (44 U.S.C. 3501-3520). The CSR notice published on February 27, 2004 [USCG-2004-17086; 69 FR 9206], proposed modifications to two existing OMB-approved collections of information-1625-0002 (formerly 2115-0007) and 1625-0017 (formerly 2115-0056). The February 27, 2004, CSR notice stated that—

• Certain vessels are required to carry onboard a CSR by the solas chapter XI-1;

• This requires information to be provided, by the public, to the coast guard; and

• These reporting and recordkeeping requirements are a collection of information.

The Coast Guard did not receive any collection-of-information-related comments to the February 27, 2004 (69 FR 9206), document. We received approval from OMB on April 2, 2004, and April 23, 2004, for collections 1625-0002 (form CG-6039, Application for Continuous Synopsis Record) and 1625-0017 (form CG-6038A, Amendments to the CSR and Index of Amendments to the CSR) respectively. As these collections were approved on an “emergency” basis, they are scheduled to expire on August 31, 2004. When this document is published, we will resubmit these collections to OMB for three-year approval. You are not required to respond to a collection of information unless it displays a currently valid OMB control number.

Dated: June 7, 2004.
Joseph J. Angelo,
Director of Standards, Marine Safety, Security & Environmental Protection.

[FR Doc. 04-13469 Filed 6-15-04; 8:45 am]

BILLING CODE 4910-15-P